DEPARTMENT OF LABOR

Employment and Training Administration

Request for Certification of Compliance—Rural Industrialization Loan and Grant Program

AGENCY: Employment and Training Administration, Labor.

ACTION: Notice.

SUMMARY: The Employment and Training Administration is issuing this notice to announce the receipt of the following Form 4279-2, “Certification of Non-Relocation and Market and Capacity Information Report” for the following:

Applicant/Location: SteelCorr, LLC/Lowndes County, Mississippi.

Principal Product: Hot Rolled, Pickled and Oiled, Cold Rolled, and Galvanized Steel Coils.

Type of Business Activity: Steel.

Section 188 of the Consolidated Farm and Rural Development Act of 1972, as established under 29 CFR part 75, authorizes the United States Department of Agriculture (USDA) to make or guarantee loans or grants to finance industrial and business activities in rural areas.

As a prior condition for approval of any loan, guarantee, or grant requested under the program, the Secretary of Labor must certify to the Secretary of Agriculture that the assistance is not calculated to or likely to result in: (a) A transfer of any employment or business activity from one area to another by the loan applicant's business operation; or, (b) An increase in the production of goods, materials, services, or facilities in an area where there is not sufficient demand to employ the efficient capacity of existing competitive enterprises unless the financial assistance will not have an adverse impact on existing competitive enterprises in the area. The Employment and Training Administration (ETA) within the Department of Labor is responsible for the review and certification process.

FOR FURTHER INFORMATION CONTACT: Thomas M. Dowd, U.S. Department of Labor, Employment and Training Administration, 200 Constitution Avenue, NW., Room S-2307, Washington, DC 20210; Telephone: (202) 693-2700 (this is not a toll-free number).

SUPPLEMENTARY INFORMATION: All interested parties may submit comments in writing no later than fourteen (14) days after the publication of this Notice. Copies of adverse comments received will be forwarded to the applicant noted above.

Dated: Signed at Washington, DC, this 18th day of March, 2005.
Emily Stover DeRocco,
Assistant Secretary, Employment and Training Administration.

[FR Doc. 05-5730 Filed 3-21-05; 8:45 am]

BILLING CODE 4510-30-P